DEPARTMENT OF ENERGY

Federal Energy Regulatory Commission

[P-516-459]

South Carolina Electric & Gas Company; Notice of Intent To Prepare an Environmental Assessment and Notice of Scoping Meetings and Site Visit and Soliciting Scoping Comments

March 17, 2009.

Take notice that the following hydroelectric application has been filed with the Commission and are available for public inspection:

a. Type of Application: New Major License.

b. Project No.: 516-459.

c. Date Filed: August 28, 2008.

d. Applicant: South Carolina Electric & Gas Company.

e. Name of Project: Saluda Project.

f. Location: On the Saluda River in Richland, Lexington, Saluda, and Newberry counties, South Carolina. The project does not occupy any Federal lands.

g. Filed Pursuant to: Federal Power Act, 16 U.S.C. 791(a)-825(r).

h. Applicant Contact: William R. Argentieri, Manager—Civil Engineering, South Carolina Electric & Gas Company, 111 Research Drive, Columbia, South Carolina 29203, (803) 217-9162.

i. FERC Contact: Lee Emery, at lee.emery@ferc.gov, or (202) 502-8379.

j. Deadline for Filing Scoping Comments: May 8, 2009.

All documents (original and eight copies) should be filed with: Kimberly D. Bose, Secretary, Federal Energy Regulatory Commission, 888 First Street, NE., Washington, DC 20426.

The Commission's Rules of Practice and Procedure require all interveners filing documents with the Commission to serve a copy of that document on each person on the official service list for the project. Further, if an intervener files comments or documents with the Commission relating to the merits of an issue that may affect the responsibilities of a particular resource agency, they must also serve a copy of the document on that resource agency.

Scoping comments may be filed electronically via the Internet in lieu of paper. The Commission strongly encourages electronic filings. See 18 CFR 385.2001(a)(1)(iii) and the instructions on the Commission's Web site (http://www.ferc.gov/docs-filing/ferc online.asp) under the “e-filing” link. For a simpler method of submitting text only comments, click on “Quick Comment.”

k. This application is not ready for environmental analysis at this time.

l. The existing 207.3-megawatt Saluda Project consists of a single development with the following features: (1) A 7,800-foot-long, 213-foot-high earth-fill dam (Saluda dam), with South Carolina State Highway 6 (Highway 6) running along the top of the dam; (2) a dike that extends 2,550 feet from the north end of the dam, running parallel with Highway 6; (3) a 2,900-foot-long emergency spillway, with six steel Taintor gates, that is located 500 feet from the south end of Saluda dam, and a spillway channel that reconnects with the Saluda River about 0.75 miles downstream from the Saluda powerhouse; (4) a 2,300-foot-long, 213-foot-high roller compacted concrete backup dam located along the downstream toe of the Saluda dam, with (i) a crest elevation of 372.0 feet North American Vertical Datum of 1988 (NAVD88),¹ and (ii) rock fill embankment sections on the north and south ends of the backup dam, having a combined length of 5,700 feet; (5) a 41-mile-long, 50,900-acre reservoir (Lake Murray) at a full pool elevation of 358.5 feet NAVD88, with a total usable storage of approximately 635,000 acre-feet; (6) five 223-foot-high intake towers and associated penstocks; (7) a concrete and brick powerhouse containing four vertical Francis turbine generating units (three at 32.5 MW and one at 42.3 MW), and a fifth vertical Francis turbine generating unit (67.5 MW), which is enclosed in a weather-tight housing located on a concrete deck attached to the south end of the main powerhouse; (8) a 150-foot-long tailrace; and (9) appurtenant facilities. There is no transmission line or bypassed reach associated with the project.

¹ The license application contains documents that provide elevations based on NAVD88 datum or based on Plant Datum. To convert from Plant Datum to NAVD88 datum, subtract 1.5 feet.

m. A copy of the application is available for review at the Commission in the Public Reference Room or may be viewed on the Commission's Web site at http://www.ferc.gov using the “eLibrary” link. Enter the docket number excluding the last three digits in the docket number field to access the document. For assistance, contact FERC Online Support at FERCOnlineSupport@ferc.gov or toll-free at 1-866-208-3676, or for TTY, (202) 502-8659. A copy is also available for inspection and reproduction at the address in item h above.

You may also register Online at http://www.ferc.gov/docs-filing/esubscription.asp to be notified via e-mail of new filings and issuances related to this or other pending projects. For assistance, contact FERC Online Support.

n. Scoping Process.

The Commission intends to prepare an Environmental Assessment (EA) on the project in accordance with the National Environmental Policy Act. The EA will consider both site-specific and cumulative environmental impacts and reasonable alternatives to the proposed action.

Scoping Meetings

FERC staff will conduct one agency scoping meeting and one public meeting. The agency scoping meeting will focus on resource agency and non-governmental organization (NGO) concerns, while the public scoping meeting is primarily for public input. All interested individuals, organizations, and agencies are invited to attend one or both of the meetings, and to assist the staff in identifying the scope of the environmental issues that should be analyzed in the EA. The times and locations of these meetings are as follows:

Agency Scoping Meeting

Date: Wednesday, April 8, 2009.

Time: 9 a.m. (EST)

Place: Saluda Shoals Park Auditorium.

Address: 5605 Bush River Road, Columbia, SC.

Public Scoping Meeting

Date: Wednesday, April 8, 2009.

Time: 6:30 p.m. (EST)

Place: Saluda Shoals Park Auditorium.

Address: 5065 Bush River Road, Columbia, SC.

Copies of the Scoping Document (SD1) outlining the subject areas to be addressed in the EA were distributed to the parties on the Commission's mailing list. Copies of the SD1 will be available at the scoping meeting or may be viewed on the Web at http://www.ferc.gov using the “eLibrary” link (see item m above).

Site Visit

The Applicant and FERC staff will conduct a project site visit beginning at 9 a.m. (EST) on Tuesday, April 7, 2009. All interested individuals, organizations, and agencies are invited to attend. All participants should meet at the Saluda Project powerhouse, 6428 Bush River Road, Columbia, SC 29212. Those individuals wishing to participate in the site visit should notify William Argentieri of their intent and provide their name, address, and social security number no later than Tuesday, March 31, 2009. All participants are responsible for their own transportation to the site and lunch. Anyone with questions about the site visit (or needing directions) should contact William Argentieri at (803) 217-9162 or by e-mail at bargentieri@scana.com.

Objectives

At the scoping meetings, the staff will: (1) Summarize the environmental issues tentatively identified for analysis in the EA; (2) solicit from the meeting participants all available information, especially quantifiable data, on the resources at issue; (3) encourage statements from experts and the public on issues that should be analyzed in the EA, including viewpoints in opposition to, or in support of, the staff's preliminary views; (4) determine the resource issues to be addressed in the EA; and (5) identify those issues that require a detailed analysis, as well as those issues that do not require a detailed analysis.

Procedures

The meetings are recorded by a stenographer and become part of the formal record of the Commission proceeding on the project.

Individuals, organizations, and agencies with environmental expertise and concerns are encouraged to attend the meeting and to assist the staff in defining and clarifying the issues to be addressed in the EA.

Kimberly D. Bose,
Secretary.

[FR Doc. E9-6287 Filed 3-23-09; 8:45 am]

BILLING CODE